DEPARTMENT OF TRANSPORTATION

Federal Aviation Administration

Fourteenth RTCA SC-229 406 MHz ELT Joint Plenary With EUROCAE WG-98

AGENCY: Federal Aviation Administration (FAA), U.S. Department of Transportation (DOT).

ACTION: Fourteenth RTCA SC-229 406 MHz ELT Joint Plenary with EUROCAE WG-98.

SUMMARY: The FAA is issuing this notice to advise the public of a meeting of the Fourteenth RTCA SC-229 406 MHz ELT Joint Plenary with EUROCAE WG-98.

DATES: The meeting will be held March 13-16, 2018 9:00 a.m.-5:00 p.m.

ADDRESSES: The meeting will be held at: THALES ALENIA SPACE, 26 avenue J.F. Champollion, Toulouse, FRANCE. Registration is required to attend this event no later than February 2, 2018.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Fourteenth RTCA SC-229 406 MHz ELT Joint Plenary with EUROCAE WG-98. The agenda will include the following:

Tuesday March 13, 2018, 9:00 a.m.-5:00 p.m.

1. Welcome/introductions/administrative remarks/DFO FAA statement

2. Agenda overview and approval

3. Minutes Washington DC meeting review and approval

4. Review action items from Washington DC meeting

5. Week's plan

6. Working group of the whole meeting (rest of the day) to answer the comments received during the second pre-FRAC/open consultation

Wednesday March 14, 2018 9:00 a.m.-5:00 p.m.

7. Working group of the whole meeting to answer the comments received during the pre-FRAC/OC

Thursday March 15, 2018 9:00 a.m.-5:00 p.m.

8. Working group of the whole meeting to answer the comments received during the pre-FRAC/OC

Friday March 16, 2018 9:00 a.m.-4:00 p.m.

9. Action item review

10. Consider a motion to open final review and comment/open consultation on the revision to RTCA/DO-204B, EUROCAE ED-62B

11. Future meeting plans and dates for formal FRAC/open consultation

12. Future meeting plans for the WG-98 (MASPS for return link service)

13. Other business

14. Adjourn

Attendance is open to the interested public but limited to space availability. Registration is required to attend the event no later than February 2, 2018. With the approval of the chairman, members of the public may present oral statements at the meeting. Persons wishing to present statements or obtain information should contact the person listed in the FOR FURTHER INFORMATION CONTACT section. Members of the public may present a written statement to the committee at any time.

Issued in Washington, DC on January 12, 2018.
Mohannad Dawoud,
Management & Program Analyst, Partnership Contracts Branch, ANG-A17, NextGen, Procurement Services Division, Federal Aviation Administration.

[FR Doc. 2018-00772 Filed 1-17-18; 8:45 am]

BILLING CODE 4910-13-P